DEPARTMENT OF THE INTERIOR

Fish and Wildlife Service

[FWS-R6-ES-2013-N137; FXES11130600000-145-FF06E00000]

Endangered and Threatened Wildlife and Plants; Draft Revised Recovery Plan for Wyoming Toad

AGENCY: Fish and Wildlife Service, Interior.

ACTION: Notice of document availability for review and comment.

SUMMARY: The U.S. Fish and Wildlife Service (Service) announces the availability of a draft revised recovery plan for the Wyoming toad (Bufo hemiophrys baxteri now known as Anaxyrus baxteri). This species is federally listed as endangered under the Endangered Species Act of 1973, as amended (Act). The Service solicits review and comment from the public on this draft revised plan.

DATES: Comments on the draft revised recovery plan must be received on or before April 11, 2014.

ADDRESSES: Copies of the draft revised recovery plan are available by request from the Wyoming Field Office, U.S. Fish and Wildlife Service, 5353 Yellowstone Road, Suite 308A, Cheyenne, WY 82009; telephone 307-772-2374. Submit comments on the draft recovery plan to the Project Leader at this same address. An electronic copy of the draft recovery plan is available at http://www.fws.gov/endangered/species/recovery-plans.html.

FOR FURTHER INFORMATION CONTACT: Project Leader, at the above address, or telephone 307-772-2374 x231.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species, establish objective, measurable criteria which, when met, would result in a determination that the species no longer needs the protection of the Act (16 U.S.C. 1531 et seq.), and provide estimates of the time and cost for implementing the needed recovery measures.

The Act requires recovery plans for listed species unless such a plan would not promote the conservation of a particular species. The original plan for the species was approved in 1993. Section 4(f) of the Act, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

The Wyoming toad (Bufo hemiophrys baxteri now known as Anaxyrus baxteri), a glacial relict species found only in Albany County, Wyoming, was listed as an endangered species on January 17, 1984 (49 FR 1992). The Wyoming toad is considered one of the four most endangered amphibian species in North America and is classified as “extinct in the wild” (IUCN 2013). Approximately 500 individuals are in captivity.

Recovery of this species will require both sustained, long-term conservation actions and repeated experimentation to determine the optimal means to reestablish wild populations. The known historic distribution of the Wyoming toad was restricted to approximately 5,000 hectares (50 sq. km) of habitat, consisting of flood plains, ponds, and small seepage lakes in the short-grass communities of the Laramie Basin in Albany County, Wyoming. Limiting factors include: (1) Land-use alterations that affect connectivity and the natural form, function, and hydrologic processes of the Laramie River; (2) limited distribution; (3) habitat manipulation; (4) disease; and (5) small population size. The recovery strategy for the Wyoming toad focuses on acquisition of suitable habitat within or nearby the toad's historic range to allow reintroduction into appropriate habitats. Recovery actions are designed to protect the species' habitat and increase the knowledge of the species' genetics, life history, and population dynamics; the relationship of the Wyoming toad to its environment; and its responses to identified threats.

Request for Public Comments

The Service solicits public comments on the draft revised recovery plan. All comments received by the date specified in DATES will be considered prior to approval of the plan. Written comments and materials regarding the plan should be addressed to the Field Supervisor (see ADDRESSES section). Comments and materials received will be available, by appointment, for public inspection during normal business hours at the above address. All public comment information provided voluntarily by mail or by phone becomes part of the official public record. If requested under the Freedom of Information Act by a private citizen or organization, the Service may provide copies of such information.

Authority

The authority for this action is section 4(f) of the Endangered Species Act, 16 U.S.C. 1533(f).

Dated: January 16, 2014.
Matt Hogan,
Deputy Regional Director, Denver, Colorado.

[FR Doc. 2014-02779 Filed 2-7-14; 8:45 am]

BILLING CODE 4310-55-P